PRIVACY AND CIVIL LIBERTIES OVERSIGHT BOARD

[Notice-PCLOB-2014-04 Docket No. 2014-0001; Sequence 4]

Sunshine Act Meetings

TIME AND DATE: Wednesday, July 23, 2014 from 1:00 p.m. through 3:00 p.m. (Eastern Standard Time).

PLACE: Will be announced on the PCLOB's Web site www.pclob.gov.

STATUS: This meeting will be open to the public.

MATTERS TO BE CONSIDERED: The Privacy and Civil Liberties Oversight Board will meet for the disposition of official business. The meeting is being held for three items of business. First, the Board will consider and vote on the release of its third semi-annual report to the President and Congress. Second, the Board will announce its short-term agenda. Third, the Board will receive the views of non-governmental organizations, the business community and the general public on its mid-term and long-term agenda.

Procedures for Public Observation

The meeting is open to the public. Pre-registration is not required. Individuals wishing to address the meeting orally must provide advance notice to Sharon Bradford Franklin, at info@pclob.gov no later than 5:00 p.m. Friday, July 18, 2014, Eastern Standard Time. The notice must include the individual's name, title, organization, and a concise summary of the subject matter to be presented. Oral presentations may not exceed ten (10) minutes. The time for individual presentations will be reduced proportionately, if necessary, to afford all participants who have submitted a timely request an opportunity to be heard. Participants wishing to submit a written statement for the record must submit a copy of such statement no later than 11:59 p.m. Friday, August 29, 2014, Eastern Standard Time. Such statement must be typewritten, double-spaced, and may not exceed ten (10) pages. The Board will prepare an agenda, which will be available at the hearing, that identifies speakers and the time allotted for each presentation. Individuals who plan to attend and require special assistance should contact Sharon Bradford Franklin, Executive Director, 202-331-1986, at least 72 hours prior to the meeting date.

ADDRESSES: Submit comments identified by Notice PCLOB 2014-04, Sunshine Act Meeting by any of the following methods:

• Regulations.gov: http://www.regulations.gov. Submit comments via the Federal eRulemaking portal by searching “PCLOB 2014-04”. Select the link “Comment Now” that corresponds with “Notice PCLOB 2014-04, Sunshine Act Meeting”. Follow the instructions provided on the screen. Please include your name, company name (if any), and “Notice PCLOB 2014-04, Sunshine Act Meeting”, on your attached document.

• Mail: General Services Administration, Regulatory Secretariat Division (MVCB), 1800 F Street NW., Washington, DC 20405. ATTN: Ms. Flowers/Notice PCLOB 2014-04, Sunshine Act Meeting.

• Instructions: Please submit comments only and cite

Notice PCLOB 2014-04, Sunshine Act Meeting, in all correspondence related to this collection. All comments received will be posted without change to http://www.regulations.gov, including any personal and/or business confidential information provided.

CONTACT PERSON FOR MORE INFORMATION: Sharon Bradford Franklin, Executive Director, 202-331-1986.

Dated: July 7, 2014.
Peter Winn,
Acting General Counsel, Privacy and Civil Liberties Oversight Board.

[FR Doc. 2014-16155 Filed 7-7-14; 4:15 pm]

BILLING CODE 3820-B3-P